DEPARTMENT OF COMMERCE

International Trade Administration

(A-570-827)

Certain Cased Pencils: Notice of Rescission of Antidumping Duty Administrative Review

AGENCY: Import Administration, International Trade Administration, Department of Commerce.

EFFECTIVE DATE: August 3, 2007.

FOR FURTHER INFORMATION CONTACT: Charles Riggle, Import Administration, Room 1870, International Trade Administration, U.S. Department of Commerce, 14th Street and Constitution Ave, NW., Washington, DC 20230; telephone: (202) 482-0650.

SUPPLEMENTARY INFORMATION:

Background

On December 1, 2006, the Department of Commerce (“the Department”) published a notice of opportunity to request an administrative review of the antidumping duty order on certain cased pencils (“cased pencils”) from the People's Republic of China (“PRC”). See Antidumping or Countervailing Duty Order, Finding, or Suspended Investigation; Opportunity To Request Administrative Review, 71 FR 69543 (December 1, 2006). We received timely requests for review from China First Pencil Co., Ltd. (“China First”), Shandong Rongxin Import & Export Co., Ltd. (“Rongxin”) and Three Star Stationery Industry Corp. (“Three Star”).

On February 2, 2007, the Department published a notice of initiation of the antidumping duty administrative review of cased pencils from the PRC for the period December 1, 2005, through November 30, 2006. See Initiation of Antidumping and Countervailing Duty Administrative Reviews and Request for Revocation in Part, 72 FR 5005 (February 2, 2007). On April 9, 2007, China First and Three Star requested a 60-day extension of the deadline by which parties who have requested a review may withdraw the request for review. On April 12, 2007, the Department granted that request. On May 21, 2006, China First and Three Star withdrew their requests for an administrative review. On June 6, 2007, Rongxin withdrew its request for review.

Rescission of Review

The Department's regulations, at 19 CFR 351.213(d)(1), provide that the Department will rescind an administrative review if the party that requested the review withdraws its request for review within 90 days of the date of publication of the notice of initiation of the requested review, or withdraws its request at a later date if the Department determines that it is reasonable to extend the time limit for withdrawing the request. China First, Three Star and Rongxin were the only parties to request reviews of their respective companies. China First, Three Star and Rongxin made timely requests to withdraw their requests for review. Therefore, since no other party requested a review of these companies, we are rescinding this review of the antidumping duty order on cased pencils from the PRC covering the period December 1, 2005, through November 30, 2006.

Assessment

The Department will instruct U.S. Customs and Border Protection (“CBP”) to assess antidumping duties on all appropriate entries. For all firms, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

This notice is issued and published in accordance with section 777(i)(1) of the Tariff Act of 1930, as amended, and 19 CFR 351.213(d)(4).

Dated: July 17, 2007.
Stephen J. Claeys
Deputy Assistant Secretary for Import Administration.

[FR Doc. E7-15137 Filed 8-2-07; 8:45 am]

BILLING CODE 3510-DS-S